NATIONAL AERONAUTICS AND SPACE ADMINISTRATION

[Notice (06-045)]

Aerospace Safety Advisory Panel Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Friday, August 18, 2006, 1 p.m. to 3 p.m. Eastern Daylight Time.

ADDRESSES: 100 Spaceport Way, Cape Canaveral, Florida 32920 (Florida Space Authority).

FOR FURTHER INFORMATION CONTACT: Mr. John D. Marinaro, Aerospace Safety Advisory Panel Executive Director, National Aeronautics and Space Administration, Washington, DC 20546, (202) 358-0914.

SUPPLEMENTARY INFORMATION: The Aerospace Safety Advisory Panel will hold its quarterly meeting. This discussion is pursuant to carrying out its statutory duties for which the Panel reviews, identifies, evaluates, and advises on those program activities, systems, procedures, and management activities that can contribute to program risk. Priority is given to those programs that involve the safety of human flight. The agenda will include institutional and program safety policy, procedure and administration related to Aerospace Safety Advisory Panel fact-finding events at the Kennedy Space Center (KSC). Other major subjects will likely include NASA organizational areas of interest as they relate to safety (e.g. Technical Authority, NASA's response to CAIB recommendations, NASA Safety Culture, etc.).

The meeting will be open to the public up to the seating capacity of the room (40). Seating will be on a first-come basis. Please contact the ASAP Office at (202) 358-0914 at least 48 hours in advance to reserve a seat. Visitors will be requested to sign a visitor's register. Photographs will only be permitted during the first 10 minutes of the meeting. During the first 30 minutes of the meeting, members of the public may make a 5-minute verbal presentation to the Panel on the subject of safety in NASA. To do so, please contact Mr. John Marinaro on (202) 358-0914 at least 24 hours in advance. Any member of the public is permitted to file a written statement with the Panel at the time of the meeting. Verbal presentations and written comments should be limited to the subject of safety in NASA.

Dated: July 7, 2006.
P. Diane Rausch,
Advisory Committee Management Officer, National Aeronautics and Space Administration.

[FR Doc. E6-11150 Filed 7-14-06; 8:45 am]

BILLING CODE 7510-13-P